FEDERAL COMMUNICATIONS COMMISSION

[Report No. 2610]

Petitions for Reconsideration of Action in Rulemaking Proceedings

June 16, 2003.

Petitions for Reconsideration have been filed in the Commission's Rulemaking proceedings listed in this Public Notice and published pursuant to 47 CFR 1.429(e). The full text of this document is available for viewing and copying in Room CY-A257, 445 12th Street, SW., Washington, DC or may be purchased from the Commission's copy contractor, Qualex International (202) 863-2893. Oppositions to these petitions must be filed by July 10, 2003. See § 1.4(b)(1) of the Commission's rules (47 CFR 1.4(b)(1)). Replies to an opposition must be filed within 10 days after the time for filing oppositions have expired.

Subject: In the Matter of the Redesignation of the 17.7-19.7 GHz Frequency Band Blanket Licensing of Satellite Earth Stations in the 17.2-20.2 GHz and 27.5-30.0 GHz Frequency Bands, and the Allocation of Additional Spectrum in the 17.17.8 GHz and 24.75-25.25 GHz Frequency Bands for Broadcast Satellite-Service Use (IB Docket No. 98-172, RM-9005, RM-9118)

Number of Petitions Filed: 1

Subject: In the Matter of 1998 Biennial Regulatory Review—Private Land Radio Services (WT Docket No. 98-182)

Number of Petitions Filed: 1

Marlene H. Dortch,
Secretary.

[FR Doc. 03-15984 Filed 6-24-03; 8:45 am]

BILLING CODE 6712-01-M